DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Burlington Northern Sante Fe Corporation

[Docket Number FRA-2006-24812]

The Burlington Northern Sante Fe Corporation (BNSF), seeks a temporary waiver of compliance from certain provisions of 49 CFR part 232, Brake System Safety Standards for Freight and Other Non-Passenger Trains and Equipment. Specifically, the mileage and inspection requirements contained in § 232.213, Extended Haul Trains.

BNSF would like to perform the 1500 mile extended haul inspection for thirteen select trains at points which slightly exceed the 1500 mile point for inbound and outbound inspections for a period of six months. BNSF does not believe that this increase will in any way compromise the safety of BNSF's operations. BNSF claims this request is critical given the increased rate of demand for coal by the utility industry. BNSF believes that granting this waiver for a period of six months will significantly improve their ability to transport coal without any degradation to the safe operation of the following train sets: E-PAMATM, E-PAMBAM, E-PAMBTM, E-PAMNAM, E-PAMSBM, E-PAMEBM, E-MHSATM, E-MHSBKM, E-MHSCAM, E-MHSEBM, E-MHSJRM, E-MHSNAM, E-MHSRWM.

BNSF states that mechanical and operating forces would be provided the list of trains allowed to operate past the 1500 mile threshold. Additionally, BNSF would keep records of any defects discovered during the inspections, as required, to include any defective cars set out enroute.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-24812 ) and must be submitted in triplicate to the Docket Clerk, DOT Central Docket Management Facility, Room Pl-401, Washington, DC 20590-0001.

Note: Any request for a public hearing must be made within 15 days of the date of this notice. Written communications received within 30 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street, SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on May 24, 2006.
Grady C. Cothen, Jr.,
Deputy Associate Administrator, for Safety Standards and Program Development.

[FR Doc. E6-8315 Filed 5-30-06; 8:45 am]

BILLING CODE 4910-06-P